DEPARTMENT OF ENERGY

Office of Energy Efficiency and Renewable Energy

U.S. Department of Energy's Fleet Alternative Fuel Vehicle Acquisition

AGENCY: Office of Energy Efficiency and Renewable Energy, U.S. Department of Energy.

ACTION: Notice of Availability of the U.S. Department of Energy's Annual Report on its Alternative Fuel Vehicle Acquisition for Fiscal Year 2004.

SUMMARY: In compliance with the Energy Policy Act of 1992 and Executive Order 13149, this notice announces the availability of the fiscal year 2004 report which summarizes the U.S. Department of Energy's (DOE) compliance with the annual alternative fuel vehicle (AFV) acquisition requirement for its agency fleet. Additionally, this report includes data concerning DOE's efforts to reduce petroleum consumption.

ADDRESSES: U.S. Department of Energy, Office of Energy Efficiency and Renewable Energy, Office of FreedomCAR and Vehicle Technologies, EE-2G, 1000 Independence Avenue, SW., Washington, DC 20585-0121.

FOR FURTHER INFORMATION CONTACT: Shabnam Fardanesh on (202) 586-7011 or shabnam.fardanesh@ee.doe.gov.

SUPPLEMENTARY INFORMATION: The Energy Policy Act of 1992 (Public Law 102-486, 42 U.S.C. 13211-13219) (EPAct), as amended, and Executive Order (E.O.) 13149 (65 FR 24607, April 2000) require Federal fleets to make 75 percent of their new covered light-duty vehicle acquisitions AFVs, beginning in fiscal year 1999. In fiscal year 2004, DOE exceeded its EPAct requirements for the sixth consecutive year. As a result of its AFV acquisitions and biodiesel fuel use, DOE in fiscal year 2004 achieved a 99 percent compliance rate, which is 24 percentage points higher than the 75 percent AFV requirement. DOE also expects to exceed its EPAct requirements in fiscal years 2005 and 2006.

In addition to emphasizing compliance with EPAct, E.O. 13149 set a goal for each agency to reduce vehicular petroleum consumption by 20 percent by the end of fiscal year 2005, compared to fiscal year 1999 levels. E.O. 13149 specifies that each agency should improve the fuel efficiency of its new conventional light-duty vehicles and increase the use of alternative fuels in its AFVs. In fiscal year 2004, 21 percent of the fuel used in DOE's AFVs was alternative fuel and DOE achieved a 2.1 mile per gallon increase in fuel economy in its conventional light-duty vehicles as compared to fiscal year 1999. This combined with EPAct AFV acquisitions, led to a reduction in petroleum consumption of 1.8 percent compared to fiscal year 1999.

Pursuant to 42 U.S.C. 13218, each covered agency, including DOE, must report its annual acquisitions of alternative fuel vehicles to Congress, as required. These annual reports must also be placed on a publicly available Web site and their availability, including the Web site address, must be published in the Federal Register.

The DOE report for fiscal year 2004 may be accessed on the DOE Vehicle Technology Federal Fleet Web site at http://www.eere.energy.gov/vehiclesandfuels/epact/federal.

Issued in Washington, DC, on June 22, 2005.
David K. Garman,
Assistant Secretary, Energy Efficiency and Renewable Energy.

[FR Doc. 05-12703 Filed 6-27-05; 8:45 am]

BILLING CODE 6450-01-P